DEPARTMENT OF COMMERCE

International Trade Administration

[A-475-703]

Granular Polytetrafluoroethylene Resin From Italy: Rescission of Antidumping Duty Administrative Review; 2015-2016

AGENCY: Enforcement and Compliance, International Trade Administration, Department of Commerce.

SUMMARY: The Department of Commerce (the Department) is rescinding the administrative review of the antidumping duty order on granular polytetrafluoroethylene (PTFE) resin from Italy, for the period of review (POR) August 1, 2015, through July 18, 2016, based on the timely withdrawal of request for review by Polis S.r.l., (Polis).

DATES: Effective January 13, 2017.

FOR FURTHER INFORMATION CONTACT: Aimee Phelan, AD/CVD Operations, Office I, Enforcement and Compliance, International Trade Administration, U.S. Department of Commerce, 1401 Constitution Avenue NW., Washington, DC 20230; telephone: (202) 482-0697.

SUPPLEMENTARY INFORMATION:

Background

On August 5, 2016, the Department published the notice of opportunity to request an administrative review of the antidumping order on granular PTFE resin from Italy for the POR August 1, 2015, through July 31, 2016.¹ On August 31, 2016, Polis, an Italian exporter of granular PTFE resin requested that the Department conduct an administrative review of itself.² On October 14, 2016, the Department initiated an administrative review for the POR August 1, 2015, through July 18, 2016, pursuant to Polis' request.³ On October 14, 2016, Polis timely withdrew its request for an administrative review.⁴

¹ See Antidumping or Countervailing Duty Order, Finding, or Suspended Investigation; Opportunity to Request Administrative Review, 81 FR 51850, 51851 (August 5, 2016) (Opportunity Notice). On August 11, 2016, the Department revoked the antidumping duty order on Granular Polytetrafluoroethylene Resin from Italy, effective July 18, 2016. See Granular Polytetrafluoroethylene Resin from Italy: Final Results of Sunset Review and Revocation of Antidumping Duty Order, 81 FR 53119 (August 11, 2016). Although the Opportunity Notice identified the POR as August 1, 2015, through July 31, 2016, in light of the revocation of the order, effective July 18, 2016, the POR would be August 1, 2015, through July 18, 2016. See Memorandum to the File, re: “Administrative Review of the Antidumping Duty Order on Granular Polytetrafluoroethylene Resin (PTFE) From Italy” dated September 8, 2016.

² See letter from Polis, re: “Polis Srl Request for Administrative Review of the Antidumping Duty Order on Granular Polytetrafluoroethylene Resin (PTFE) From Italy (A-475-703)” dated August 31, 2016.

³ See Initiation of Antidumping and Countervailing Duty Administrative Reviews, 81 FR 71061 (October 14, 2016).

⁴ See letter from Polis, re: “Polis Srl Withdrawal of Administrative Review Request of the Antidumping Duty Order on Granular Polytetrafluoroethylene Resin (PTFE) From Italy (A-475-703)” dated October 14, 2016.

Rescission of Review

Pursuant to 19 CFR 351.213(d)(1), the Department will rescind an administrative review, in whole or in part, if the party or parties that requested a review withdraws the request within 90 days of the publication date of the notice of initiation of the requested review. As noted above, Polis withdrew its request for review within the 90-day period. No other party requested a review and, therefore, the Department is rescinding this administrative review.

Assessment

The Department will instruct U.S. Customs and Border Protection (CBP) to assess antidumping duties on all appropriate entries of granular PTFE resin from Italy. For Polis, antidumping duties shall be assessed at rates equal to the cash deposit of estimated antidumping duties required at the time of entry, or withdrawal from warehouse, for consumption in accordance with 19 CFR 351.212(c)(1)(i). The Department intends to issue appropriate assessment instructions to CBP 15 days after the date of publication of this notice in the Federal Register.

Notifications

This notice also serves as a final reminder to parties subject to administrative protective order (APO) of their responsibility concerning the return or destruction of proprietary information disclosed under an APO in accordance with 19 CFR 351.305(a)(3). Timely written notification of the return or destruction of APO materials, or conversion to judicial protective order, is hereby requested. Failure to comply with the regulations and terms of an APO is a sanctionable violation.

This notice is issued and published in accordance with sections 751(a)(l) and 777(i)(1) of the Tariff Act of 1930, as amended, and 19 CFR 35l.213(d)(4).

Dated: January 9, 2017.
Gary Taverman,
Associate Deputy Assistant Secretary for Antidumping and Countervailing Duty Operations.

[FR Doc. 2017-00736 Filed 1-12-17; 8:45 am]

BILLING CODE 3510-DS-P